DEPARTMENT OF VETERANS AFFAIRS

[OMB Control No. 2900-0902]

Agency Information Collection Activity: Gray Market Clauses: 852.212-71 and 852.212-72

AGENCY: Office of Acquisition and Logistics, Department of Veterans Affairs.

ACTION: Notice.

SUMMARY: Office of Acquisition and Logistics (OAL), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before March 17, 2026.

ADDRESSES: Comments must be submitted through www.Regulations.gov.

FOR FURTHER INFORMATION CONTACT:

Program-Specific information: Forrest Browne, 202-632-9677, Forrest.Browne@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OAL invites comments on: (1) whether the proposed collection of information is necessary for the proper performance of OAL's functions, including whether the information will have practical utility; (2) the accuracy of OAL's estimate of the burden of the proposed collection of information; (3) ways to enhance the quality, utility, and clarity of the information to be collected; and (4) ways to minimize the burden of the collection of information on respondents, including through the use of automated collection techniques or the use of other forms of information technology.

Title: Gray Market Clauses: 852.212-71 and 852.212-72.

OMB Control Number: 2900-0902. https://www.reginfo.gov/public/do/PRASearch (Once at this link, you can enter the OMB Control Number to find the historical versions of this Information Collection).

Type of Review: Extension without change of a currently approved collection.

Abstract: In accordance with Veterans Affairs Acquisition Regulation (VAAR), section 812.301(f), Solicitation provisions and contract clauses for the acquisition of commercial items, VA proposes to continue using two clauses in solicitations and contracts for new medical equipment, new medical supplies, new information technology equipment, and maintenance of medical or information technology equipment that includes replacement parts. These clauses prevent the entrance into the VA supply chain of gray market and counterfeit supplies and parts for such items. The two clauses are 852.212-71, Gray Market and Counterfeit Items; and 852.212-72, Gray Market and Counterfeit Items—Information Technology Maintenance Allowing Other-than-New Parts.

Affected Public: Business or other for-profit.

Estimated Annual Burden: 2,171 hours.

Estimated Average Burden per Respondent: 30 minutes.

Frequency of Response: Less than quarterly.

Estimated Number of Respondents: 4,342.

Authority: 44 U.S.C. 3501 et seq.

Shunda Willis,
Acting, VA PRA Clearance Officer, (Alt.) Office of Information Technology, Data Governance Analytics, Department of Veterans Affairs.

[FR Doc. 2026-00763 Filed 1-15-26; 8:45 am]

BILLING CODE 8320-01-P